DEPARTMENT OF JUSTICE

Drug Enforcement Administration

[Docket No. 10-35]

Beau Boshers, M.D.; Decision and Order

ACTION: Correction.

On Thursday, April 7, 2011, the Drug Enforcement Administration published the above-titled Decision and Order, as well as the Decision of the Administrative Law Judge (76 FR 19401). In preparing the document for publication, the files were merged resulting in the footnotes of the Administrative Law Judge's Decision being numbered sequentially to follow the footnote numbers of the Decision and Order rather than beginning with the number 1 as they did in the ALJ's slip opinion.

Therefore, this notice corrects footnotes 10 through 84 appearing in the Decision signed by the U.S. Administrative Law Judge to be footnotes 1 through 75 beginning at 76 FR 19404 under the third column.

Dated: April 8, 2011.
Michele M. Leonhart,
Administrator.

[FR Doc. 2011-9172 Filed 4-14-11; 8:45 am]

BILLING CODE 4410-09-P